DEPARTMENT OF COMMERCE

National Oceanic and Atmospheric Administration

RIN 0658-XA461

New England Fishery Management Council; Public Meeting

AGENCY: National Marine Fisheries Service (NMFS), National Oceanic and Atmospheric Administration (NOAA), Commerce.

ACTION: Notice; public meeting.

SUMMARY: The New England Fishery Management Council's (Council) VMS/Enforcement Committee and Advisory Panel will meet to consider actions affecting New England fisheries in the exclusive economic zone (EEZ).

DATES: The meeting will be held on Wednesday, June 15, 2011 at 9:30 a.m.

ADDRESSES: The meeting will be held at the Fairfield Inn & Suites, 185 MacArthur Drive, New Bedford, MA 02740, telephone: (774) 634-2000; fax: (774) 634-2001.

Council address: New England Fishery Management Council, 50 Water Street, Mill 2, Newburyport, MA 01950.

FOR FURTHER INFORMATION CONTACT: Paul J. Howard, Executive Director, New England Fishery Management Council; telephone: (978) 465-0492.

SUPPLEMENTARY INFORMATION: The items of discussion in the committee's agenda are as follows:

The Committee and Advisory Panel will discuss draft revisions to the Magnuson-Stevens Act's National Standard 10 guidelines to promote safety at sea, and NOAA's draft enforcement priority-setting process; if applicable, the Coast Guard may report on comments it has received as part of its initiative to improve the overall compliance with and effectiveness of the Northeast Multispecies (Groundfish) Fishery Management Plan (FMP) regulations; the committee also may forward recommendations concerning several alternatives being considered for inclusion in Framework Adjustment 23 to the Scallop Fishery Management Plan (FMP). Other business may also be discussed.

Although non-emergency issues not contained in this agenda may come before this group for discussion, those issues may not be the subject of formal action during this meeting. Action will be restricted to those issues specifically identified in this notice and any issues arising after publication of this notice that require emergency action under section 305(c) of the Magnuson-Stevens Fishery Conservation and Management Act, provided the public has been notified of the Council's intent to take final action to address the emergency.

Special Accommodations

This meeting is physically accessible to people with disabilities. Requests for sign language interpretation or other auxiliary aids should be directed to Paul J. Howard (see ADDRESSES) at least 5 days prior to the meeting date.

Authority: 16 U.S.C. 1801 et seq.

Dated: May 24, 2011.
Tracey L. Thompson,
Acting Director, Office of Sustainable Fisheries, National Marine Fisheries Service.

[FR Doc. 2011-13276 Filed 5-27-11; 8:45 am]

BILLING CODE 3510-22-P